NATIONAL COUNCIL ON DISABILITY

Sunshine Act: Meeting

TYPE: Community briefings.

AGENCY: National Council on Disability.

SUMMARY: This notice sets forth the schedule of the forthcoming community briefings of the National Council on Disability. Notice of this meeting is required under Section 522b(e)(1) of the Government in the Sunshine Act, (P.L. 94-409).

BACKGROUND: In May and June 2000, NCD conducted a think tank and civil rights retreat in Washington, DC, June 27-29, 2000. From those meetings a disability civil rights agenda was developed that includes a strategic action plan for disability civil rights enforcement for the next decade. The purpose of these 13 community briefings is to share and solicit input on the plan from grassroots stakeholders in every region of the country.

COMMUNITY BRIEFING DATES AND LOCATIONS:

August 14, 2000, New York, NY

August 17, 2000, Atlanta, GA

August 30, 2000, Houston, TX

September 6, 2000, Denver, CO

September 7, 2000, Anchorage, AK

September 8, 2000, Philadelphia, PA

September 13, 2000, Los Angeles, CA

September 15, 2000, Miami, FL

September 19, 2000, Boston, MA

September 21, 2000, Portland, OR

September 27, 2000, Rapid City, SD

September 28, 2000, Chicago, IL

September 29, 2000, Kansas City, MO

FOR SPECIFIC LOCATION AND INFORMATION, CONTACT: Carla Nelson, National Council on Disability, 1331 F Street NW, Suite 1050, Washington, DC 20004-1107; 202-272-2004 (Voice), 202-272-2074 (TTY), 202-272-2022 (Fax), or smadison@ncd.gov (e-mail).

AGENCY MISSION: The National Council on Disability is an independent federal agency composed of 15 members appointed by the President and confirmed by the U.S. Senate. Its overall purpose is to promote policies, programs, practices, and procedures that guarantee equal opportunity for all people with disabilities, regardless of the nature of severity of the disability; and to empower people with disabilities to achieve economic self-sufficiency, independent living, and inclusion and integration into all aspects of society.

ACCOMMODATIONS: Those needing interpreters or other accommodations should notify the National Council on Disability prior to this meeting.

ENVIRONMENTAL ILLNESS: People with environmental illness must reduce their exposure to volatile chemical substances in order to attend this meeting. In order to reduce such exposure, we ask that you not wear perfumes or scents at the meeting. We also ask that you smoke only in designated areas and the privacy of your room. Smoking is prohibited in the meeting room and surrounding area.

OPEN MEETING: These community briefings of the National Council on Disability will be open to the public.

Records will be kept of all National Council on Disability proceedings and will be available after the meeting for public inspection at the National Council on Disability.

Signed in Washington, DC, on July 19, 2000.
Ethel D. Briggs,
Executive Director.

[FR Doc. 00-18666 Filed 7-19-00; 4:21 pm]

BILLING CODE 6820-MA-M